NATIONAL SCIENCE FOUNDATION

Advisory Committee for Polar Programs; Notice of Meeting

In accordance with the Federal Advisory Committee Act (Pub. L. 92-463, as amended), the National Science Foundation (NSF) announces the following meeting:

Name and Committee Code: Advisory Committee for Polar Programs (1130).

Date and Time: April 29, 2021; 10:30 a.m.-4 p.m.; April 30, 2021; 10:30 a.m.-4 p.m.

Place: National Science Foundation, 2415 Eisenhower Avenue, Alexandria, Virginia 22314 | Virtual.

To register for the meeting, please contact Ms. Erika Davis at 703-292-7421 or via email: edavis@nsf.gov.

Type of Meeting: Open.

Contact Person: Andrew Backe, National Science Foundation, Room W 7237, 2415 Eisenhower Avenue, Alexandria, Virginia 22314; Phone 703-292-2454.

Minutes: May be obtained from the contact person listed above.

Purpose of Meeting: To provide advice and recommendations to the National Science Foundation concerning support for polar research, education, infrastructure and logistics, and related activities.

Agenda

April 29, 2021; 10:30 a.m.-4 p.m. (Virtual)

• Office of Polar Programs Updates

• COVID 19 Impacts

• Meeting with the NSF Director & Chief Operating Officer

• Updates on NSF GEO Activities

April 30, 2021; 10:30 a.m.-4 p.m. (Virtual)

• Advisory Committee Liaison Updates

• NSF Response to the Antarctic

• NSF Response to Arctic Sciences Committee of Visitors Report

• Discussion regarding the Subcommittee on Diversity and Inclusion

The agenda and any meeting updates will be posted on the AC-OPP website at https://www.nsf.gov/geo/opp/advisory.jsp.

Dated: March 24, 2021.
Crystal Robinson,
Committee Management Officer.

[FR Doc. 2021-06468 Filed 3-29-21; 8:45 am]

BILLING CODE 7555-01-P